DEPARTMENT OF LABOR

Employment and Training Administration

[TA-W-50,279]

Pfaltzgraff Company, Thomasville, PA; Notice of Termination of Investigation

Pursuant to section 221 of the Trade Act of 1974, an investigation was initiated on December 9, 2002 in response to a worker petition which was filed on behalf of workers at Pfaltzgraff Company, Thomasville, Pennsylvania.

An active certification covering the petitioning group of workers is already in effect (TA-W-41,917, as amended). Consequently, further investigation in this case would serve no purpose, and the investigation has been terminated.

Signed in Washington, DC this 18th day of December 2002.
Linda G. Poole,
Certifying Officer, Division of Trade Adjustment Assistance.

[FR Doc. 03-418 Filed 1-8-03; 8:45 am]

BILLING CODE 4510-30-P